DEPARTMENT OF EDUCATION

Applications for New Awards; Special Education Parent Information Centers—Technical Assistance for Parent Centers

AGENCY: Office of Special Education and Rehabilitative Services, Department of Education.

ACTION: Notice. January 12, 2023.

SUMMARY: The Department of Education (Department) is issuing a notice inviting applications for new awards for fiscal year (FY) 2023 for Technical Assistance for Parent Centers, Assistance Listing Number 84.328R. This notice relates to the approved information collection under OMB control number 1820-0028.

DATES: Applications Available: January 12, 2023.

Deadline for Transmittal of Applications: March 28, 2023.

Deadline for Intergovernmental Review: May 30, 2023.

Pre-Application Webinar Information: No later than January 17, 2023, OSERS will post pre-recorded informational webinars designed to provide technical assistance to interested applicants. The webinars may be found at www2.ed.gov/fund/grant/apply/osep/new-osep-grants.html.

ADDRESSES: For the addresses for obtaining and submitting an application, please refer to our Common Instructions for Applicants to Department of Education Discretionary Grant Programs, published in the Federal Register on December 7, 2022 (87 FR 75045) and available at https://www.federalregister.gov/documents/2022/12/07/2022-26554/common-instructions-for-applicants-to-department-of-education-discretionary-grant-programs. Please note that these Common Instructions supersede the version published on December 27, 2021.

FOR FURTHER INFORMATION CONTACT: Carmen Sanchez, U.S. Department of Education, 400 Maryland Avenue SW, Room 5144, Potomac Center Plaza, Washington, DC 20202-5076. Telephone: (202) 245-6595. Email: Carmen.Sanchez@ed.gov.

If you are deaf, hard of hearing, or have a speech disability and wish to access telecommunications relay services, please dial 7-1-1.

SUPPLEMENTARY INFORMATION:

Full Text of Announcement

I. Funding Opportunity Description

Purpose of Program: The purpose of the Special Education Parent Information Centers program is to ensure that parents of children with disabilities receive high-quality, relevant, and useful training and information to help improve outcomes for their children.

Priority: This competition includes one absolute priority and two focus areas. In accordance with 34 CFR 75.105(b)(2)(v), this priority is from allowable activities specified in sections 670-673 and 681(d) of the Individuals with Disabilities Education Act (IDEA); 20 U.S.C. 1470-1473 and 1481(d). Within focus area 1 of the absolute priority, we include one competitive preference priority, and within focus area 2 of the absolute priority, we include two competitive preference priorities.

Absolute Priority: For FY 2023 and any subsequent year in which we make awards from the list of unfunded applications from this competition, this priority is an absolute priority. Under 34 CFR 75.105(c)(3), we consider only applications that meet this priority.

This priority is:

Technical Assistance for Parent Centers.

Background:

The mission of the Office of Special Education and Rehabilitative Services (OSERS) is to improve early childhood, educational, and employment outcomes and raise expectations for all people with disabilities, their families, their communities, and the Nation. Section 673 of IDEA authorizes technical assistance (TA) for developing, assisting, and coordinating parent training and information programs carried out by parent training and information centers (PTIs) that receive assistance under section 671 of IDEA and by community parent resource centers (CPRCs) that receive assistance under section 672 of IDEA (collectively, “parent centers”). The purpose of this priority is to fund five cooperative agreements to establish and operate five parent technical assistance centers (PTACs) across two focus areas to provide TA to parent centers. A center for parent information and resources (CPIR) will focus on developing products for all parent centers (Focus Area 1). Four regional parent training and technical assistance centers (regional PTACs) will focus on providing capacity-building TA to the parent centers in their regions (Focus Area 2).

The work of the proposed centers is consistent with the following Secretary's Supplemental Priorities, which were published in the Federal Register on December 10, 2021 (86 FR 70612): Priority 2—Promoting Equity in Student Access to Educational Resources and Opportunities; Priority 4—Meeting Student Social, Emotional, and Academic Needs; Priority 5—Increasing Postsecondary Education Access, Affordability, Completion, and Post-Enrollment Success; and Priority 6—Strengthening Cross-Agency Coordination and Community Engagement to Advance Systemic Change.

The 90 parent center grants (www.parentcenterhub.org/find-your-center/) currently funded by the Department promote the effective education of infants, toddlers, children, and youth with disabilities by “strengthening the role and responsibility of parents and ensuring that families of such children have meaningful opportunities to participate in the education of their children at school and at home” (section 601(c)(5)(B) of IDEA). For the past 40 years, parent centers, consistent with section 671(b) of IDEA, have helped parents navigate systems providing early intervention, special education and related services, general education, and postsecondary options; understand the nature of their children's disabilities; learn about their rights and responsibilities under IDEA; expand their knowledge of evidence-based ¹ practices (EBPs) to help their children succeed; strengthen their collaboration with educators and other professionals; locate resources for themselves and their children; and advocate for improved child outcomes and student achievement, increased graduation rates, and improved postsecondary outcomes for all children through participation in program and school reform activities. In addition, parent centers have helped youth with disabilities understand their rights and responsibilities and learn self-advocacy skills.

¹ Evidence-based, as defined in 34 CFR 77.1, means the proposed project component is supported by one or more of strong evidence, moderate evidence, promising evidence, or evidence that demonstrates a rationale.

Consistent with the statute, PTACs provide support to parent centers to carry out these statutorily required activities and thereby help parents participate in the education of their children to improve their children's outcomes. In addition, section 673(b) of IDEA lists potential areas in which parent centers may also need TA from PTACs, such as: (1) coordinating parent training efforts; (2) disseminating evidence-based research and information; (3) promoting the use of technology, including assistive technology devices and services; (4) reaching underserved ² parents; (5) including children with disabilities in general education programs; (6) facilitating all transitions from early intervention through postsecondary environments; and (7) promoting alternative methods of dispute resolution, including mediation. Parent centers have also identified through needs assessment that they have a need for TA to increase their capacity to reach, and provide virtual and in-person services to, youth with disabilities and parents of infants, toddlers, and preschool children.

² Consistent with the Secretary's Supplemental Priorities, underserved parents include: parents living in poverty; parents of color; parents who are members of a federally or state recognized Indian Tribe; parents who are English learners; parents with a disability; disconnected parents; technologically unconnected parents; migrant parents; parents experiencing homelessness or housing insecurity; lesbian, gay, bisexual, transgender, queer or questioning, or intersex (LGBTQI+) parents; foster parents; parents without documentation of immigration status; parents impacted by the justice system, including formerly incarcerated parents and parents of children in the juvenile justice system; parents in need of improving their basic skills or with limited literacy; and military- or veteran-connected parents.

PTACs provide needed support to parent centers on other topics as well, including current information on laws and policies; translating EBPs to improve outcomes for children with disabilities and their families; how to help parents learn about and access high-quality education options that allow their children to meet challenging objectives appropriate in light of the child's circumstances; and ways to effectively engage in education reform activities, including Federal, State, and local initiatives. Ongoing TA, responsive to the individual needs of parent centers, can increase parent center staff's knowledge and expertise on these topics. In addition, since many parent centers are grassroots organizations with small budgets, they often benefit from TA on managing a Federal grant, maximizing efficient use of their resources, meeting complex statutory and regulatory requirements for nonprofits, and providing professional development to staff. External evaluation reports, as part of the PTACs' annual performance reports (APRs), indicate that the TA they provided has substantially increased parent centers' capacity to respond effectively to parents and youth during disasters, including the COVID-19 pandemic.

The following website provides more information on the current parent centers, including links to each grantee's website: www.parentcenterhub.org.

Priority:

The purpose of this priority is to fund five cooperative agreements to establish and operate one CPIR (Focus Area 1) and four regional PTACs (Focus Area 2). The CPIR will develop and disseminate resources for all parent centers to use when working with parents of children with disabilities (hereafter “parents”) and youth with disabilities (hereafter “youth”). The CPIR will also develop and disseminate materials that all parent centers can use to train staff to effectively reach and serve all parents and youth. The four regional PTACs will provide TA to parent centers within their region to effectively manage their centers and reach and serve all parents and youth. The CPIR and regional PTACs will coordinate their efforts in order to maximize resources and avoid duplication. An applicant may submit applications in both focus areas; however, an applicant is limited to only one application in each focus area (e.g., apply for only one region under Focus Area 2).

Focus Area 1:

The CPIR will provide universal, general TA ³ to the parent centers across the Nation and serve as a virtual hub for collaboration and training. The CPIR must achieve, at a minimum, the following expected outcomes:

³ “Universal, general TA” means TA and information provided to independent users through their own initiative, resulting in minimal interaction with TA center staff and including one-time, invited or offered conference presentations by TA center staff. This category of TA also includes information or products, such as newsletters, guidebooks, or research syntheses, downloaded from the TA center's website by independent users. Brief communications by TA center staff with recipients, either by telephone or email, are also considered universal, general TA.

(a) Increased parent centers' knowledge, through the development and dissemination of high-quality information and products, of—

(1) Early intervention and educational EBPs and current Federal, State, Tribal, and other laws and policies that impact children and youth with disabilities and their families;

(2) Effective and equitable practices in carrying out parent center activities including outreach, family-centered services, and self-advocacy skill building; and

(3) Effective nonprofit management practices, to include developing a robust infrastructure for remote service provision; hiring strategies and succession planning; and board development.

(b) Increased parent centers' use of high-quality materials and approaches to train—

(1) Staff in effective and equitable practices in carrying out parent center activities including outreach, family-centered services, and self-advocacy skill building; and

(2) Multilingual staff—in their native languages to the extent practicable—and to ensure the accuracy of the translation of materials they provide in languages other than English.

In addition to these programmatic requirements, to be considered for funding under this priority, applicants must meet the application and administrative requirements in this priority, which are:

(a) Demonstrate, in the narrative section of the application under “Significance,” how the proposed project will—

(1) Address parent centers' needs both for resources to effectively reach and serve all parents and youth, including underserved parents and youth, and for materials to train staff to effectively reach and serve all parents and youth. To meet this requirement, the applicant must—

(i) Present applicable national data on the needs of parent centers; and

(ii) Demonstrate knowledge of—

(A) Current educational issues and policy initiatives relating to early childhood (ages birth through five), general and special education, secondary transition services, and postsecondary options; and

(B) Best practices in—

(1) Equitable outreach; family-centered services; and self-advocacy skill building, including effective and appropriate outreach and service provision to underserved parents and youth in urban, suburban, and rural communities;

(2) Staff training, including training for multilingual staff; and

(3) Nonprofit management, including remote service provision; hiring strategies and succession planning; and board development;

(2) Increase the knowledge of parent centers on how to reach, and provide virtual and in-person services to, all parents and youth, to train staff using high-quality training materials, and to apply management best practices; and

(3) Indicate the likely magnitude or importance of the improvements in parent centers' service provision.

(b) Demonstrate, in the narrative section of the application under “Quality of project services,” how the proposed project will—

(1) Ensure equal access and treatment for members of groups that have traditionally been underrepresented based on race, color, national origin, gender, age, or disability. To meet this requirement, the applicant must describe how it will—

(i) Identify the needs of the parent centers for TA and information;

Note: The methods and tools to identify needs will be finalized in consultation with the regional PTACs and the Office of Special Education Programs (OSEP) project officers in order to assure coordination and avoid duplication; and

(ii) Ensure that products and services meet the needs of the parent centers;

(2) Achieve its goals, objectives, and intended outcomes. To meet this requirement, the applicant must provide—

(i) Measurable intended project outcomes; and

(ii) In Appendix A, the logic model (as defined in 34 CFR 77.1) by which the proposed project will achieve its intended outcomes that depicts, at a minimum, the goals, activities, and outputs in addition to the intended outcomes of the proposed project;

(3) Use a conceptual framework (and provide a copy in Appendix A) to develop project plans and activities, describing any underlying concepts, assumptions, expectations, beliefs, or theories, as well as the presumed relationships or linkages among these variables, and any empirical support for this framework;

Note: The following websites provide more information on logic models and conceptual frameworks: https://osepideasthatwork.org/sites/default/files/2021-12/ConceptualFramework_Updated.pdf and www.osepideasthatwork.org/resources-grantees/program-areas/ta-ta/tad-project-logic-model-and-conceptual-framework.

(4) Be based on current research and make use of EBPs. To meet this requirement, the applicant must describe—

(i) The current research on outreach, family-centered services, and self-advocacy skill building, including effective and equitable outreach and service provision to underserved parents and youth; staff training, including training for multilingual staff; and nonprofit management;

(ii) The current research about adult learning principles and implementation science that will inform the proposed TA; and

(iii) How the proposed project will incorporate current research and EBPs in the development and delivery of its products and services;

(5) Develop products and provide services that are of high quality and sufficient intensity and duration to achieve the intended outcomes of the proposed project. To address this requirement, the applicant must describe—

(i) How it proposes to identify how knowledgeable the parent centers are regarding outreach, family-centered services, and self-advocacy skill building, including effective and appropriate outreach and service provision to underserved parents and youth; staff training, including training for multilingual staff; and nonprofit management;

(ii) Its proposed approach to universal, general TA, which must identify the intended recipients within the parent centers, including the type and number of recipients, that will receive the products and services under this approach and must, at minimum, include how the project will—

(A) Create, update, and maintain an online, annotated repository of high-quality resources produced by the CPIR, OSEP-funded projects, and other federally funded projects for parent centers' use with families, youth, staff members, and members of the boards of directors, including translations of materials as needed;

(B) Develop, as needed, up-to-date, family-centered resources that parent centers can use with parents and youth in a variety of languages, formats, and reading levels, including when providing virtual services;

(C) Disseminate and modify, as needed, family-centered resources developed by OSEP and other federally funded centers such as the proposed Center on Dispute Resolution to provide all parents, particularly underserved parents, with information on their and their children's rights and responsibilities under IDEA and other Federal laws;

(D) Disseminate and modify, as needed, family-centered resources developed by OSEP and other federally funded centers to provide families with strategies to enhance their children's academic skills, self-advocacy, social emotional skills, and behavior and mental health at home, to include information about accessing Federal, State, and local programs, benefits, and resources that provide support;

(E) Disseminate and modify, as needed, family-centered resources developed by OSEP and other federally funded centers to provide families with strategies to enhance their children's preparation to transition from school to postsecondary education and training, and the workforce, including self-advocacy and skills needed for independent living, to include information about accessing Federal, State, and local programs, benefits, and resources that provide support;

(F) Compile and create materials to train staff, including multilingual staff, to effectively provide services to underserved parents and youth; and

(G) Compile and create materials on nonprofit management, as needed, and develop a process for an annual orientation of new parent center directors and other key personnel and members of the boards of directors that provides the new personnel with the information and resources they need to carry out their responsibilities;

(6) Develop products and implement services that maximize efficiency. To address this requirement, the applicant must describe—

(i) How the proposed project will use technology to achieve the intended project outcomes;

(ii) With whom the proposed project will collaborate and the intended outcomes of this collaboration;

(iii) How the proposed project will use existing knowledge and expertise within parent centers to achieve intended project outcomes; and

(iv) How the proposed project will use non-project resources to achieve the intended project outcomes;

(7) Develop a dissemination plan that describes how the applicant will systematically distribute information and products to parent centers, using a variety of dissemination strategies, to promote awareness and use of the CPIR's products and services; and

(8) Assist parent centers in the collection of annual performance data required under section 671(b)(12) of IDEA, in consultation with the OSEP project officer.

(c) In the narrative section of the application under “Quality of the project evaluation,” include an evaluation plan for the project developed in consultation with and implemented by a third-party evaluator.⁴ The evaluation plan must—

⁴ A “third-party” evaluator is an independent and impartial program evaluator who is contracted by the grantee to conduct an objective evaluation of the project. This evaluator must not have participated in the development or implementation of any project activities, except for the evaluation activities, nor have any financial interest in the outcome of the evaluation.

(1) Articulate formative and summative evaluation questions, including important process and outcome evaluation questions. These questions must be related to the project's proposed logic model required in paragraph (b)(2)(ii) of this notice;

(2) Describe how progress in and fidelity of implementation, as well as project outcomes, will be measured to answer the evaluation questions. Specify the measures and associated instruments or sources for data appropriate to the evaluation questions. Include information regarding reliability and validity of measures where appropriate;

(3) Describe strategies for analyzing data and how data collected as part of this plan will be used to inform and improve service delivery over the course of the project and to refine the proposed logic model and evaluation plan, including subsequent data collection;

(4) Provide a timeline for conducting the evaluation and include staff assignments for completing the plan. The timeline must indicate that the data will be available annually for the APR and in Year 2 for the review process described under the heading, Fourth and Fifth Years of the Project; and

(5) Dedicate sufficient funds in each budget year to cover the costs of developing or refining the evaluation plan in consultation with a third-party evaluator, as well as the costs associated with the implementation of the evaluation plan by the third-party evaluator.

(d) Demonstrate, in the narrative section of the application under “Adequacy of resources and quality of project personnel,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits.

(e) Demonstrate, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes;

(3) The proposed management plan will ensure that the products and services provided are of high quality, relevant, and useful to recipients; and

(4) The proposed project will benefit from a diversity of perspectives, including those of families, youth, educators, TA providers, researchers, and policy makers, among others, in its development and operation.

(f) Address the following application requirements. The applicant must—

(1) Include, in Appendix A, personnel-loading charts and timelines, as applicable, to illustrate the management plan described in the narrative;

(2) Include, in the budget, attendance at the following:

(i) A one and one-half day virtual kick-off meeting after receipt of the award, and an annual virtual planning meeting with the OSEP project officer and other relevant staff during each subsequent year of the project period.

Note: Within 30 days of receipt of the award, a post-award teleconference must be held between the OSEP project officer and the grantee's project director or other authorized representative;

(ii) A two and one-half day project directors' conference in Washington, DC, during each year of the project period. The project must reallocate funds for travel to the project directors' conference no later than the end of the third quarter of each budget period if the meeting is conducted virtually;

(iii) One annual two-day trip to attend Department briefings, Department-sponsored conferences, and other meetings, as requested by OSEP; and

(iv) A one-day intensive virtual 3+2 review meeting during the last half of the second year of the project period;

(3) Include, in the budget, a line item for an annual set-aside of 5 percent of the grant amount to support emerging needs that are consistent with the proposed project's intended outcomes, as those needs are identified in consultation with, and approved by, the OSEP project officer. With approval from the OSEP project officer, the project must reallocate any remaining funds from this annual set-aside no later than the end of the third quarter of each budget period;

(4) Maintain a high-quality website, with an easy-to-navigate design, that meets government or industry-recognized standards for accessibility;

(5) Ensure that annual project progress toward meeting project goals is posted on the project website; and

(6) Include, in Appendix A, an assurance to assist OSEP with the transfer of pertinent resources and products and to maintain the continuity of services to parent centers during the transition to this new award period and at the end of this award period, as appropriate.

Fourth and Fifth Years of the Project:

In deciding whether to continue funding the project for the fourth and fifth years, the Secretary will consider the requirements of 34 CFR 75.253(a), including—

(a) The recommendations of a 3+2 review team consisting of experts who have experience and knowledge in family-centered services. This review will be conducted during a one-day intensive meeting that will be held during the last half of the second year of the project period;

(b) The timeliness with which, and how well, the requirements of the negotiated cooperative agreement have been or are being met by the project; and

(c) The quality, relevance, and usefulness of the project's products and services and the extent to which the project's products and services are aligned with the project's objectives and likely to result in the project achieving its intended outcomes.

Under 34 CFR 75.253, the Secretary may reduce continuation awards or discontinue awards in any year of the project period for excessive carryover balances or a failure to make substantial progress. The Department intends to closely monitor unobligated balances and substantial progress under this program and may reduce or discontinue funding accordingly.

Focus Area 2:

The four regional PTACs will provide targeted, specialized TA ⁵ and intensive, sustained TA ⁶ to the parent centers in their respective areas. The regional PTACs must achieve, at a minimum, the following expected outcomes:

⁵ “Targeted, specialized TA” means TA services based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

⁶ “Intensive, sustained TA” means TA services often provided on-site and requiring a stable, ongoing relationship between the TA center staff and the TA recipient. “TA services” are defined as negotiated series of activities designed to reach a valued outcome. This category of TA should result in changes to policy, program, practice, or operations that support increased recipient capacity or improved outcomes at one or more systems levels.

(a) Increased parent center capacity to inform and train parents both virtually and in person on—

(1) Early intervention and educational EBPs;

(2) Their rights and responsibilities under Federal, State, Tribal, and other laws and policies that impact children with disabilities and their families; and

(3) Accessing Federal, State, and local programs, benefits, and resources that support children with disabilities, youth with disabilities, and their families;

(b) Increased parent center capacity to reach more parents and youth and effectively provide equitable parent center services to help more parents improve outcomes for their children and to help youth build their self-advocacy skills;

(c) Increased parent center capacity to provide effective and equitable outreach and service provision to all parents and youth; and

(d) Increased parent center capacity to effectively manage their nonprofit organizations and projects and to provide high-quality training to staff, including multilingual staff, to reach and serve all parents and youth in their region.

The geographic regions served by the four regional PTACs are generally aligned with the States served by the Equity Assistance Centers funded under Title IV of the 1964 Civil Rights Act, while also balancing the number of centers each regional PTAC will have in its region. This alignment will help the regional PTACs meet the requirement in section 673(c) of IDEA that the regional PTACs develop collaborative agreements with the geographically appropriate centers. The four regional PTACs will represent the following geographic regions:

Region A PTAC: CT, DC, DE, ME, MA, MD, NH, NJ, NY, PA, Puerto Rico, RI, U.S. Virgin Islands, VT.

Region B PTAC: AL, AR, FL, GA, LA, MS, NC, OK, SC, TN, TX, VA.

Region C PTAC: IL, IN, IA, KS, KY, MI, MN, MO, MT, NE, ND, OH, SD, WI, WV, WY.

Region D PTAC: AK, AZ, CA, CO, HI, ID, NM, NV, OR, UT, WA, the outlying areas of the Pacific Basin, the Freely Associated States.

In addition to these programmatic requirements, to be considered for funding under this priority, applicants must meet the application and administrative requirements in this priority, which are:

(a) Demonstrate, in the narrative section of the application under “Significance,” how the proposed project will—

(1) Address the needs of parent centers in its region for TA to increase their capacity to reach, and provide virtual and in-person services to, parents and youth in their areas, including underserved parents and youth; build youth's self-advocacy skills; train staff; and effectively manage their centers. To meet this requirement the applicant must—

(i) Present applicable information on the needs of parent centers in the region; and

(ii) Demonstrate knowledge of—

(A) Current early intervention and educational issues and policy initiatives relating to early childhood, general and special education, secondary transition services, and postsecondary options; and

(B) Best practices in—

(1) Equitable outreach; family-centered services; and self-advocacy skill building, including effective and appropriate outreach and service provision to underserved parents and youth in urban, suburban, and rural communities;

(2) Staff training, including training for multilingual staff; and

(3) Nonprofit management, including remote service provision; hiring strategies and succession planning; and board development; and

(2) Increase the capacity of parent centers to reach, and provide virtual and in-person services to, all parents and youth, train staff, and manage their projects; and indicate the likely magnitude or importance of the improvements.

(b) Demonstrate, in the narrative section of the application under “Quality of project services,” how the proposed project will—

(1) Ensure equal access and treatment for members of groups that have traditionally been underrepresented based on race, color, national origin, gender, age, or disability. To meet this requirement, the applicant must describe how it will—

(i) Identify the needs of the parent centers in the proposed region for TA and information;

Note: The methods and tools to identify needs will be finalized in consultation with the CPIR, other regional PTACs, and the OSEP project officers in order to assure coordination and avoid duplication; and

(ii) Ensure that products and services meet the needs of the intended parent centers;

(2) Achieve its goals, objectives, and intended outcomes. To meet this requirement, the applicant must provide—

(i) Measurable intended project outcomes; and

(ii) In Appendix A, the logic model (as defined in 34 CFR 77.1) by which the proposed project will achieve its intended outcomes that depicts, at a minimum, the goals, activities, and outputs in addition to the intended outcomes of the proposed project;

(3) Use a conceptual framework (and provide a copy in Appendix A) to develop project plans and activities, describing any underlying concepts, assumptions, expectations, beliefs, or theories, as well as the presumed relationships or linkages among these variables, and any empirical support for this framework;

Note: The following websites provide more information on logic models and conceptual frameworks: https://osepideasthatwork.org/sites/default/files/2021-12/ConceptualFramework_Updated.pdf and www.osepideasthatwork.org/resources-grantees/program-areas/ta-ta/tad-project-logic-model-and-conceptual-framework.

(4) Be based on current research and make use of EBPs. To meet this requirement, the applicant must describe—

(i) The current research on outreach, family-centered services, and self-advocacy skill building, including effective and equitable outreach and service provision to underserved parents and youth; staff training, including training for multilingual staff; and nonprofit management;

(ii) The current research about adult learning principles and implementation science that will inform the proposed TA; and

(iii) How the proposed project will incorporate current research and EBPs in the development and delivery of its products and services;

(5) Develop products and provide services that are of high quality and sufficient intensity and duration to achieve the intended outcomes of the proposed project. To address this requirement, the applicant must describe—

(i) How it proposes to work with the CPIR to identify the materials and products on parental and child rights under Federal laws, outreach, family-centered services, and self-advocacy skill building, including effective and equitable outreach and virtual and in-person service provision to underserved parents and youth; staff training, including training for multilingual staff; and nonprofit management;

(ii) Its proposed approach to targeted, specialized TA ⁷ to the parent centers in the regions and how the project will—

(A) Conduct at least one in-person, on-site visit to each parent center in the region during the course of the five-year project period;

(B) Increase parent centers' capacity to reach and provide services to all parents and youth, including underserved parents and youth;

(C) Increase parent centers' capacity to train staff, including multilingual staff, to provide effective and appropriate outreach and services to underserved parents and youth; and

(D) Increase parent centers' capacity to effectively manage nonprofit organizations, including: developing the board of directors so that parent centers have the organizational policies, procedures, and structure in place to manage their grants effectively; providing remote services; developing and implementing hiring strategies; and developing succession plans; and

(iii) Its proposed approach to intensive, sustained TA,⁸ which must identify—

(A) The intended recipients, including the type and number of recipients, that will receive the products and services under this approach;

(B) Its proposed approach to measure the readiness of the parent centers to work with the project;

(C) Its proposed plan for assisting parent centers to build or enhance their staff training and professional development based on adult learning principles and coaching; and

(D) Its proposed approach to providing intensive TA to parent centers when requested by OSEP project officers;

(6) Develop products and implement services that maximize efficiency. To address this requirement, the applicant must describe—

(i) How the proposed project will use technology to achieve the intended project outcomes;

(ii) With whom the proposed project will collaborate and the intended outcomes of this collaboration;

(iii) How the proposed project will use existing knowledge and expertise within parent centers to achieve intended project outcomes;

(iv) How the proposed project will use the resources housed in and developed by the CPIR and build on the CPIR's universal TA; and

(v) How the proposed project will use non-project resources to achieve the intended project outcomes; and

(7) Develop a dissemination plan that describes how the applicant will systematically distribute information, products, and services to the parent centers in the region, using a variety of dissemination strategies, to promote awareness and use of the regional PTAC's products and services.

(c) In the narrative section of the application under “Quality of the project evaluation,” include an evaluation plan for the project developed in consultation with and implemented by a third-party evaluator.⁹ The evaluation plan must—

⁹ A “third-party” evaluator is an independent and impartial program evaluator who is contracted by the grantee to conduct an objective evaluation of the project. This evaluator must not have participated in the development or implementation of any project activities, except for the evaluation activities, nor have any financial interest in the outcome of the evaluation.

(1) Articulate formative and summative evaluation questions, including important process and outcome evaluation questions. These questions must be related to the project's proposed logic model required in paragraph (b)(2)(ii) of this notice;

(2) Describe how progress in and fidelity of implementation, as well as project outcomes, will be measured to answer the evaluation questions. Specify the measures and associated instruments or sources for data appropriate to the evaluation questions. Include information regarding reliability and validity of measures where appropriate;

(3) Describe strategies for analyzing data and how data collected as part of this plan will be used to inform and improve service delivery over the course of the project and to refine the proposed logic model and evaluation plan, including subsequent data collection;

(4) Provide a timeline for conducting the evaluation and include staff assignments for completing the plan. The timeline must indicate that the data will be available annually for the APR; and

(5) Dedicate sufficient funds in each budget year to cover the costs of developing or refining the evaluation plan in consultation with a third-party evaluator, as well as the costs associated with the implementation of the evaluation plan by the third-party evaluator.

Note: The evaluations for all the regional PTACs will be developed in consultation with the regional PTACs and OSEP project officers for the regional PTACs.

(d) Demonstrate, in the narrative section of the application under “Adequacy of resources and quality of project personnel,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits.

(e) Demonstrate, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes;

(3) The proposed management plan will ensure that the products and services provided are of high quality, relevant, and useful to recipients; and

(4) The proposed project will benefit from a diversity of perspectives, including those of families, educators, TA providers, researchers, and policy makers, among others, in its development and operation.

(f) Address the following application requirements. The applicant must—

(1) Include, in Appendix A, personnel-loading charts and timelines, as applicable, to illustrate the management plan described in the narrative;

(2) Include, in the budget, attendance at the following:

(i) A one- and one-half day virtual kick-off meeting after receipt of the award, and an annual virtual planning meeting with the OSEP project officer and other relevant staff during each subsequent year of the project period.

Note: Within 30 days of receipt of the award, a post-award teleconference must be held between the OSEP project officer and the grantee's project director or other authorized representative;

(ii) A two- and one-half day project directors' conference in Washington, DC, or virtually, during each year of the project period. The project must reallocate funds for travel to the project directors' conference no later than the end of the third quarter of each budget period if the meeting is conducted virtually; and

(iii) One annual two-day trip, or virtually, to attend Department briefings, Department-sponsored conferences, and other meetings, as requested by OSEP;

(3) Include, in the budget, a line item for an annual set-aside of 5 percent of the grant amount to support emerging needs that are consistent with the proposed project's intended outcomes, as those needs are identified in consultation with, and approved by, the OSEP project officer. With approval from the OSEP project officer, the project must reallocate any remaining funds from this annual set-aside no later than the end of the third quarter of each budget period;

(4) Maintain a high-quality website, with an easy-to-navigate design, that meets government or industry-recognized standards for accessibility;

(5) Ensure that annual project progress toward meeting project goals is posted on the project website; and

(6) Include, in Appendix A, an assurance to assist OSEP with the transfer of pertinent resources and products and to maintain the continuity of services to parent centers in the center's region during the transition to this new award period and at the end of this award period, as appropriate.

Competitive Preference Priorities:

Within this absolute priority, we give competitive preference to applications that address the following priorities. Under 34 CFR 75.105(c)(2)(i), for an application under Focus Area 1, we will award five additional points if the application meets Competitive Preference Priority 1. For an application under Focus Area 2, we will award five additional points if the application meets Competitive Preference Priority 1 and five additional points if the application meets Competitive Preference Priority 2, for a total of 10 possible additional points.

These priorities are:

Competitive Preference Priority 1—Applicants That Are Parent Organizations (5 Points).

Applicants under Focus Area 1 or Focus Area 2 that are “parent organizations.” A “parent organization” is a private nonprofit organization (other than an institution of higher education) that—

(a) Has a board of directors—

(1) The majority of whom are parents of children with disabilities ages birth through 26;

(2) That includes—

(i) Individuals working in the fields of special education, related services, and early intervention; and

(ii) Individuals with disabilities; and

(3) The parent and professional members of which are broadly representative of the population to be served, including low-income parents and parents of limited English proficient children; and

(b) Has as its mission serving families of children with disabilities who—

(1) Are ages birth through 26; and

(2) Have the full range of disabilities described in section 602(3) of IDEA. (Section 671(a)(2) of IDEA)

Competitive Preference Priority 2—Location (5 Points).

Applicants under Focus Area 2 that are located in the region they propose to serve.

Waiver of Proposed Rulemaking: Under the Administrative Procedure Act (APA) (5 U.S.C. 553) the Department generally offers interested parties the opportunity to comment on proposed priorities. Section 681(d) of IDEA, however, makes the public comment requirements of the APA inapplicable to the priority in this notice.

Program Authority: 20 U.S.C. 1470-1473 and 1481.

Note: Projects will be awarded and must be operated in a manner consistent with the nondiscrimination requirements contained in Federal civil rights laws.

Applicable Regulations: (a) The Education Department General Administrative Regulations in 34 CFR parts 75, 77, 79, 81, 82, 84, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

II. Award Information

Type of Award: Cooperative agreements.

Available Funds: $2,940,000.

Contingent upon the availability of funds and the quality of applications, we may make additional awards in FY 2024 from the list of unfunded applications from this competition.

Maximum Award:

Focus Area 1: We will not make an award exceeding $840,000 for a single budget period of 12 months.

Focus Area 2: We will not make an award exceeding $525,000 for a single budget period of 12 months.

Estimated Number of Awards:

Focus Area 1: 1.

Focus Area 2: 4.

Note: The Department is not bound by any estimates in this notice.

Project Period: Up to 60 months.

III. Eligibility Information

1. Eligible Applicants: Private nonprofit organizations.

Note: If you are a nonprofit organization, under 34 CFR 75.51, you may demonstrate your nonprofit status by providing: (1) proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2. a. Cost Sharing or Matching: This competition does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application. Under 34 CFR 75.708(e), a grantee may contract for supplies, equipment, and other services in accordance with 2 CFR part 200.

4. Other General Requirements:

(a) Recipients of funding under this competition must make positive efforts to employ and advance in employment qualified individuals with disabilities (see section 606 of IDEA).

(b) Applicants for, and recipients of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on December 7, 2022 (87 FR 75045) and available at https://www.federalregister.gov/documents/2022/12/07/2022-26554/common-instructions-for-applicants-to-department-of-education-discretionary-grant-programs, which contain requirements and information on how to submit an application. Please note that these Common Instructions supersede the version published on December 27, 2021.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative is where you, the applicant, address the selection criteria that reviewers use to evaluate your application. We recommend that you (1) limit the application narrative to no more than 70 pages and (2) use the following standards:

• A “page” is 8.5″ × 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are listed below:

(a) Significance (10 points).

(1) The Secretary considers the significance of the proposed project.

(2) In determining the significance of the proposed project, the Secretary considers one or more of the following factors:

(i) The extent to which specific gaps or weaknesses in services, infrastructure, or opportunities have been identified and will be addressed by the proposed project, including the nature and magnitude of those gaps or weaknesses.

(ii) The importance or magnitude of the results or outcomes likely to be attained by the proposed project.

(b) Quality of project services (35 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers one or more of the following factors:

(i) The extent to which the goals, objectives, and outcomes to be achieved by the proposed project are clearly specified and measurable.

(ii) The extent to which there is a conceptual framework underlying the proposed research or demonstration activities and the quality of that framework.

(iii) The extent to which the services to be provided by the proposed project reflect up-to-date knowledge from research and effective practice.

(iv) The extent to which the training or professional development services to be provided by the proposed project are of sufficient quality, intensity, and duration to lead to improvements in practice among the recipients of those services.

(v) The extent to which the TA services to be provided by the proposed project involve the use of efficient strategies, including the use of technology, as appropriate, and the leveraging of non-project resources.

(c) Quality of the project evaluation (20 points).

(1) The Secretary considers the quality of the evaluation to be conducted of the proposed project.

(2) In determining the quality of the evaluation, the Secretary considers one or more of the following factors:

(i) The extent to which the methods of evaluation are thorough, feasible, and appropriate to the goals, objectives, and outcomes of the proposed project.

(ii) The extent to which the methods of evaluation provide for examining the effectiveness of project implementation strategies.

(iii) The extent to which the methods of evaluation will provide performance feedback and permit periodic assessment of progress toward achieving intended outcomes.

(d) Adequacy of resources and quality of project personnel (15 points).

(1) The Secretary considers the adequacy of resources for the proposed project and quality of the personnel who will carry out the proposed project.

(2) In determining the quality of project personnel, the Secretary considers the extent to which the applicant encourages applications for employment from persons who are members of groups that have traditionally been underrepresented based on race, color, national origin, gender, age, or disability.

(3) In determining the adequacy of resources and quality of project personnel for the proposed project, the Secretary considers one or more of the following factors:

(i) The qualifications, including relevant training and experience, of key project personnel.

(ii) The qualifications, including relevant training and experience, of project consultants or subcontractors.

(iii) The adequacy of support, including facilities, equipment, supplies, and other resources, from the applicant organization or the lead applicant organization.

(iv) The relevance and demonstrated commitment of each partner in the proposed project to the implementation and success of the project.

(v) The extent to which the costs are reasonable in relation to the objectives, design, and potential significance of the proposed project.

(e) Quality of the management plan (20 points).

(1) The Secretary considers the quality of the management plan for the proposed project.

(2) In determining the quality of the management plan for the proposed project, the Secretary considers one or more of the following factors:

(i) The adequacy of the management plan to achieve the objectives of the proposed project on time and within budget, including clearly defined responsibilities, timelines, and milestones for accomplishing project tasks.

(ii) The extent to which the time commitments of the project director and principal investigator and other key project personnel are appropriate and adequate to meet the objectives of the proposed project.

(iii) The adequacy of mechanisms for ensuring high-quality products and services from the proposed project.

(iv) How the applicant will ensure that a diversity of perspectives are brought to bear in the operation of the proposed project, including those of parents, teachers, the business community, a variety of disciplinary and professional fields, recipients or beneficiaries of services, or others, as appropriate.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.206, before awarding grants under this competition the Department conducts a review of the risks posed by applicants. Under 2 CFR 200.208, the Secretary may impose specific conditions, and under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

6. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an APR that provides the most current performance and financial expenditure information as directed by the Secretary under 34 CFR 75.118. The Secretary may also require more frequent performance reports under 34 CFR 75.720(c). For specific requirements on reporting, please go to www.ed.gov/fund/grant/apply/appforms/appforms.html.

5. Performance Measures: For the purposes of Department reporting under 34 CFR 75.110, we have established a set of performance measures, including long-term measures, that are designed to yield information on various aspects of the effectiveness and quality of the Special Education Parent Information Centers program. These measures are:

• Program Performance Measure #1: The percentage of materials used by Special Education Parent Information Centers Program projects deemed to be of high quality by an independent review panel of experts qualified to review the substantive content of the products or services.

• Program Performance Measure #2: The percentage of Special Education Parent Information Centers products and services deemed to be of high relevance to educational and early intervention policy or practice by an independent review panel of experts qualified to review the substantive content of the products or services.

• Program Performance Measure #3: The percentage of all Special Education Parent Information Centers products and services deemed by an independent review panel of qualified experts to be useful to improve educational or early intervention policy or practice.

• Program Performance Measure #4: An index of the Federal cost per unit of output provided by the Special Education Parent Information Centers.

The following measures are collected through a survey of parent centers, as part of the CPIR data collection referenced in this notice.

• Long-term Program Performance Measure #1: Parents served by Special Education Parent Information Centers investments will be knowledgeable about their IDEA rights and responsibilities.

• Long-term Program Performance Measure #2: Parents served by the Special Education Parent Information Centers will be able to work with schools and service providers effectively in meeting the needs of their children.

The measures apply to projects funded under this competition, and grantees are required to submit data on these measures as directed by OSEP.

Grantees will be required to report information on their project's performance in annual and final performance reports to the Department (34 CFR 75.590).

The Department will also closely monitor the extent to which the products and services provided by the Center meet needs identified by stakeholders and may require the Center to report on such alignment in its annual and final performance reports.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Katherine Neas,
Deputy Assistant Secretary. Delegated the authority to perform the functions and duties of the Assistant Secretary for the Office of Special Education and Rehabilitative Services.

[FR Doc. 2023-00535 Filed 1-11-23; 8:45 am]

BILLING CODE 4000-01-P